DEPARTMENT OF HEALTH AND HUMAN SERVICES

Administration for Children and Families

Proposed Information Collection Activity; Comment Request

Proposed Projects

Title: Office of Refugee Resettlement Individual Development Accounts (ORR IDA) Program.

OMB No.: New Collection.

Description: The Office of Refugee Resettlement seeks OMB approval to develop three data collection tools for use in the ORR IDA Program.

The ORR IDA Program represents an anti-poverty strategy built on asset accumulation for low-income refugee individuals and families with the goal of promoting refugee economic independence.

IDAs are leveraged or matched, savings accounts. In the ORR Refugee IDA program, IDAs are matched with federal funds that have been allocated as “match funds” from at least 65 percent of the annual federal grant award. IDAs are established in insured accounts in qualified financial institutions. The funds are intended for the Asset Goals specified in this announcement. Although the refugee participant maintains control of all funds that the participant deposits in the IDA, including all interest that may accrue on the funds, the participant must sign a Savings Plan Agreement which specifies that the funds in the account will be used only for the participant's qualified Asset Goal(s) or for an emergency withdrawal.

The objectives of this program are to:

1. Establish IDAs for eligible participants;

2. Encourage regular saving habits among refugees;

3. Promote their participation in the financial institutions of this country;

4. Promote refugee acquisition of assets to build individual, family, and community resources;

5. Increase refugee knowledge of financial and monetary topics including developing a household budget;

6. Assist refugees in advancing their education;

7. Increase home ownership among refugees; and

8. Assist refugees in gaining access to capital.

The tools will collect information from grantees that will help ORR determine whether they are meeting the objectives of the program. Data to be collected will only include specialized, and relevant information to the program such as, number of people enrolled, amount in dollar allocated for matching IDA savings, number and value of assets purchased, confirmation of refugee status, and types and quantity of training provided. Tools will be used for semi-annual reports as well as for monitoring to ensure progress towards success, and appropriate use of federal funds.

Respondents: Office of Refugee Resettlement Individual Development Accounts Program grantees.

Annual Burden Estimates
Instrument | Number of respondents | Number of responses per respondent | Average burden hours per response | Total burden hours
Program Status Report | 22 | 2 | 1 | 44
Community Impact Report | 22 | 2 | 1 | 44
Demographic | 22 | 2 | 1 | 44

Estimated Total Annual Burden Hours: 132 hours.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-01643 Filed 1-28-15; 8:45 am]

BILLING CODE 4184-01-PA29JA3.